DEPARTMENT OF THE INTERIOR

Fish and Wildlife Service

50 CFR Part 17

[Docket No. FWS-R1-ES-2011-0048; MO 92210-0-0008-B2]

Endangered and Threatened Wildlife and Plants; 90-Day Finding on a Petition to List the Straight Snowfly and Idaho Snowfly as Endangered

AGENCY: Fish and Wildlife Service, Interior.

ACTION: Notice of 90-day petition finding.

SUMMARY: We, the U.S. Fish and Wildlife Service (Service), announce a 90-day finding on a petition to list the straight snowfly (Capnia lineata) and Idaho snowfly (Capnia zukeli) as endangered and to designate critical habitat for these species under the Endangered Species Act of 1973, as amended (Act). Based on our review, we find that the petition does not present substantial information indicating that listing either of the species may be warranted. Therefore, we are not initiating a status review for either the straight snowfly or Idaho snowfly in response to this petition. However, we ask the public to submit to us any new information that may become available concerning the status of, or threats to, the straight snowfly or Idaho snowfly or their habitats at any time.

DATES: The finding announced in this document was made on August 2, 2011.

ADDRESSES: This finding is available on the Internet at http://www.regulations.gov at Docket Number FWS-R1-ES-2011-0048. Supporting documentation we used in preparing this finding is available for public inspection, by appointment, during normal business hours at the U.S. Fish and Wildlife Service, Idaho Fish and Wildlife Office, 1387 South Vinnell Way, Room 368, Boise, ID 83709. Please submit any new information, materials, comments, or questions concerning this finding to the above street address.

FOR FURTHER INFORMATION CONTACT: Brian T. Kelly, State Supervisor, Idaho Fish and Wildlife Office (see ADDRESSES), by telephone 208-378-5243, or by facsimile to 208-378-5262. If you use a telecommunications device for the deaf (TDD), please call the Federal Information Relay Service (FIRS) at 800-877-8339.

SUPPLEMENTARY INFORMATION:

Background

Section 4(b)(3)(A) of the Act (16 U.S.C. 1531 et seq.) requires that we make a finding on whether a petition to list, delist, or reclassify a species presents substantial scientific or commercial information indicating that the petitioned action may be warranted. We are to base this finding on information provided in the petition, supporting information submitted with the petition, and information otherwise available in our files. To the maximum extent practicable, we are to make this finding within 90 days of our receipt of the petition, and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly conduct a species status review, which we subsequently summarize in our 12-month finding.

Petition History

On June 9, 2010, the Service received a petition dated June 9, 2010, from the Xerces Society for Invertebrate Conservation and Friends of the Clearwater, requesting that we list the straight snowfly and Idaho snowfly as endangered, and that we designate critical habitat for these species under the Act (hereafter cited as “Petition”). The petition clearly identified itself as such and included the requisite identification information for the petitioners, as required by 50 CFR 424.14(a). In an August 6, 2010, letter to the petitioners, we responded that we reviewed the information presented in the petition and determined that issuing an emergency regulation temporarily listing the species under section 4(b)(7) of the Act was not warranted. We also stated that, due to court orders and judicially approved settlement agreements for other listing and critical habitat determinations under the Act that required nearly all of our listing and critical habitat funding for fiscal year 2010, we would not be able to further address the petition at that time, but would complete an evaluation of the petition when workload and funding allowed. This finding addresses the petition.

Species Information

The Idaho snowfly was once considered to be the same species as the straight snowfly, but is now recognized as a separate species (Nelson and Baumann 1989, p. 344). Both the straight and Idaho snowflies are in the order Plecoptera (stoneflies), family Capniidae and genus Capnia (Stark et al. 1998, p. 1; Nelson and Baumann 1989, entire). We accept the characterization of the straight and Idaho snowflies as separate species based on the publication of Nelson and Baumann (1989, p. 344), which has been accepted by the scientific community.

Information regarding specific habitat requirements for the straight or Idaho snowflies is unknown and is not provided in the petition or available in our files (Petition, pp. 7-8; Idaho Department of Fish and Game (IDFG) 2005, pp. 582-584). Information generic to the order, family, and genus of these species is therefore presented here.

Stoneflies, in general, are primarily associated with clean, cool running waters. The eggs and nymphs of all North American stonefly species are aquatic, while the adults (with one exception) are terrestrial (Stewart and Harper 1996, p. 217). After hatching from eggs, stoneflies usually start feeding and growing immediately, although nymphal diapause (delay in development) has been reported in some species (Stark et al. 1998, p. 6). During the nymphal growth period, stoneflies undergo periodic molting (Stark et al. 1998, p. 6). Two general growth patterns are recognized for stoneflies: Fast cycle and slow cycle (Stark et al. 1998, p. 6). Fast cycle species undergo nymphal or egg diapause for several months and then grow quickly over a 3- to 4-month period and emerge as adults (Stark et al. 1998, p. 6). Slow cycle species hatch directly and grow continuously over a 1- to 3-year period and then emerge as adults (Stark et al. 1998, p. 6).

Stonefly nymphs have specific requirements for water temperature, substrate type, and stream size, although these vary between species (Lillehammer et al. 1989, pp. 181-182). Their microhabitats include the hyporheic zone (the subsurface sediment and porous space adjacent to a stream where shallow groundwater and surface water mixes), cobble and gravel interstices, debris accumulations, and leaf packs (Stewart and Harper 1996, p. 217). Adults live on streamside riparian vegetation, rocks, or debris (Stewart and Harper 1996, p. 217).

The Capniidae family is the most species-rich family of stoneflies in North America (Stark et al. 1998, p. 85). One of the primary distinguishing characteristics of this family is the period of adult emergence that occurs from late winter to early spring (Baumann et al. 1977, p. 56; Stewart and Harper 1996, p. 218), when adults are often found crawling on snow and ice (Baumann et al. 1977, p. 56; Nelson in litt. 1996, p. 2; Stark et al. 1998, p. 85). Capnia is the largest genus in the Capniidae family. Although species in North America range from coast to coast, they are particularly abundant west of the Great Plains (Stark et al. 1998, p. 89).

Species in the Capniidae family can be found in a variety of lotic (flowing water) habitats, with a small number found in lentic (standing water) systems, such as cold, pristine mountain lakes (Stark et al. 1998, p. 86). Capniid nymphs inhabit the freshwater hyporheic zone where they feed on detritus, making them important bases of the food web in these relatively energy-poor zones (Nelson in litt. 1996, p. 2; Stark et al. 1998, p. 86). Given that they inhabit the hyporheic zone, they are not always encountered in standard benthic (bottom of a water body) samples (Nelson in litt. 1996, p. 2).

Members of the genus Capnia are found in both cold and warm lotic habitats (Baumann 1979, pp. 242-243). Capnia species are shredders of decomposing plant tissue and coarse particulate organic matter (Stewart and Harper 1996, p. 264). North American Capnia species are thought to have univoltine (one brood of offspring per year), fast life cycles (Stewart and Harper 1996, p. 218; Stewart and Stark 2002, p. 125), with nymphs entering diapause in the hyporheic zone in summer (Stewart and Harper 1996, p. 218). In general, adult Capnia emerge earliest at lower elevations and southerly latitudes, with later emergence occurring as elevation increases, or as one proceeds north (Nelson and Baumann 1989, p. 291). Adults of the straight snowfly are reported to emerge from late February through June, while adults of the Idaho snowfly are reported to emerge during a shorter window from April through early June (Nelson and Baumann 1989, pp. 340, 344).

The straight snowfly and Idaho snowfly were originally described by Hanson (1943, pp. 85-88) from straight snowfly specimens collected in 1911 from Troy, Idaho, and Idaho snowfly specimens collected in 1938 from Moscow, Idaho. While the straight and Idaho snowflies are similar and occupy the same range and similar habitat, they are described as separate species due to morphological differences. The Idaho snowfly exhibits an extremely long epiproct (a triangular or shield-shaped plate covering the dorsal surface of the terminal abdominal segments), the absence of tergal (upper surface of abdominal segment) knobs, and brachyptery (short-wings; Nelson and Baumann 1989, p. 344); the straight snowfly differs from the most similar Capnia confusa by its relatively longer epiproct, visible evidence of a sclerotized (hardened) bridge between sternites (ventral plate of a body segment) seven and eight, and short wings exhibited by males (Nelson and Baumann 1989, p. 340). Adults of Capnia are relatively small and black, and are usually less than 0.4 inches (10 millimeters) in length (Baumann et al. 1977, p. 61; Stark et al. 1998, p. 90).

Historical and Current Distribution

The reported distribution of the straight and Idaho snowflies is within Latah County in northern Idaho (Hanson 1943, pp. 85-88; Nelson and Baumann 1989, p. 340; IDFG 2005, pp. 582-584), where they have been documented within the Potlatch and Palouse rivers and their tributaries (Nelson and Baumann 1989, p. 344). Collectively, there were 32 documented occurrences for both Idaho-endemic species between the years 1911 and 1989 (Petition, p. 31 (Appendix I)).

The straight snowfly has been collected from eight waterbodies in the Potlatch Watershed (Big Bear Creek, Little Bear Creek, West Fork Little Bear Creek, Little Boulder Creek, Hog Meadow Creek, Potlatch River, Spring Valley Creek, and Spring Valley Reservoir) and three waterbodies in the Palouse Watershed (Lost Creek, Robinson Lake, and South Fork Palouse River). There are some additional collection locations generally recorded as “Troy,” “Moscow,” and other localities east and northeast of Moscow, Idaho (Petition, p. 7).

The Idaho snowfly has been recorded from three waterbodies in the Potlatch Watershed (Little Boulder Creek, Potlatch River, and Spring Valley Creek), and one waterbody in the Palouse Watershed (Palouse River). This species also has some additional general locations documented, including “Moscow,” “Moscow Mountain,” and “Troy Creek” (Petition, p. 7).

Prior to the 1980s, it appears that collections of both species were on a purely opportunistic or incidental basis, as there are only a handful of records for each (three for the Idaho snowfly: In 1938, 1962, and 1977; and eight for the straight snowfly: One in 1911, one in 1930, and six from the 1960s and 1970s (Petition, Appendix I)). Although the number of documented occurrences increased for both species during the 1980s, it is unclear whether this was the result of focused searches to document the full extent of their respective ranges, or if there were simply an increased number of collections of the two species incidental to other efforts. The actual historical distribution of both the straight snowfly and the Idaho snowfly is therefore unknown.

The Idaho snowfly has not been collected since 1985, and the straight snowfly has not been collected since 1989, but according to the petitioners, there have not been any targeted surveys for either species since that time (Petition, pp. 7, 31). Information on the extent and methodology of surveys within the Palouse and Potlatch drainages and other similar watersheds, or information regarding any surveys that may have occurred since the 1980s for either species, was not provided in the petition, nor is it available in our files. The petition does not provide any information, nor do we have any information available in our files, to suggest that further attempts have been made to locate additional populations of either species, or that historical documented occurrences of either species have been revisited since the 1980s to verify their continued presence or absence. All of the references cited by the petitioners with regard to species surveys were personal communications. Although we requested copies of these personal communications from the petitioners, they were not provided to us; therefore, we are not able to consider them in our evaluation (U.S. Fish and Wildlife Service (Service) in litt. 2010, entire). Whether the distribution of either species has changed since they were last observed in the mid-to late 1980s is unknown, and the petition presents no evidence to suggest their distributions have changed.

Population Status and Trend

According to the petition, abundance estimates are not known to have been made for either species at any site; apparently the only available information regarding species abundance is that past collections, based on a single location and date, have ranged from 1 to 87 individuals of the straight snowfly, and from 1 to 89 individuals of the Idaho snowfly (Petition, p. 7). We have no additional information regarding abundance for either species available to us in our files.

According to the petition, the Nature Serve global rankings are G3 (vulnerable) for the straight snowfly and G2 (imperiled) for the Idaho snowfly (Petition, p. 5). As noted by the petitioners, however, these ranking have since been changed to reflect a correction in the distribution of the straight snowfly (NatureServe 2010a, p. 1; NatureServe 2010b, p. 1). Both the straight and Idaho snowflies currently have a Global Heritage Status Rank of G2 and a National Status Rank of N2 (NatureServe 2010a, p. 1; NatureServe 2010b, p. 1). According to NatureServe, a rank of G2 signifies that a species is at a high risk of extinction or elimination due to very restricted range, very few populations, steep declines, or other factors. The N2 rank is assigned based upon the same factors, and species in this category are defined as imperiled in the nation and State because of rarity due to very restricted range, very few populations, steep declines, or other factors making it very vulnerable to extirpation. Although we do not know which of these factors may have served as the basis for these rankings, and whether they may simply reflect the presumably limited range of these endemic species, we note that the NatureServe accounts do not provide any information regarding population abundance or trend for either species, and further clearly state that specific threats have not been identified for populations of either species (NatureServe 2010a, p. 2; NatureServe 2010b, p. 1). In addition, collections for either snowfly species have not been reported since 1989, and no surveys for the species are known to have been conducted since then (Petition, pp. 7, 31). Based on NatureServe's ranking system, the occurrences of both straight and Idaho snowflies reported in the petition could therefore be considered “historical,” because it has been over 20 years since they were last documented (Hammerson et al. 2008, p. 4).

Both the straight and Idaho snowfly are also listed as Species of Greatest Conservation Need (SGCN) according to the IDFG Comprehensive Wildlife Conservation Strategy (CWCS) (IDFG 2005, pp. 582-584). The straight snowfly is listed with a Statewide S1 ranking, meaning that it is critically imperiled. However, the CWCS cites, as the basis for this ranking, the “lack of essential information pertaining to status; 1 known location and no population trend data” (IDFG 2005, p. 582). The Idaho snowfly is also ranked S1 Statewide, and is included as a SGCN due to “lack of essential information pertaining to status; no population trend data” (IDFG 2005, p. 584). The CWCS recommends that further surveys and studies be conducted to determine the distribution and habitat needs for both species (IDFG 2005, pp. 582-584). However, we have no information to suggest that any further surveys or studies have been performed to date. While the petition states that both species are considered species of concern by the U.S. Forest Service, our records indicate that neither species has conservation status or classification with the U.S. Forest Service or U.S. Bureau of Land Management (IDFG 2005, pp. 582-584).

In summary, the petition provided no information, and we have none available in our files, to inform us as to the population status of either species. Although the petitioners contend that “the number and abundance of populations of these species are likely to have declined” (Petition, p. 7), and “are in imminent danger of extinction” (Petition, p. 5), the petition offers no support for these statements. Neither historical nor current estimates of abundance are available; therefore, it is not possible to discern any trend in population abundance of either species over time. In addition, although we have some historical information on distribution, no surveys have been conducted for either species in over 20 years, so we have no information to indicate that their distribution has changed. Although the rankings of the straight snowfly and Idaho snowfly by NatureServe and the State of Idaho seem to suggest that the species are imperiled, an inspection of the basis for these rankings indicates that they merely reflect a lack of data with which to discern the status of the species; hence, these rankings may more accurately reflect only the limited known geographic distribution of the snowflies, as there is no evidence of any decline or range contraction for either species. In its CWCS, IDFG concluded that the data are too limited to adequately assess the distribution, population size, and status of either the straight snowfly or Idaho snowfly (IDFG 2005, pp. 582-584). Based on the information provided in the petition and readily available to us in our files, we agree. We have no data to inform us as to the current distribution, abundance, or population trend of either the straight snowfly or Idaho snowfly, and, therefore, no evidence to suggest that either species may have suffered any decline in numbers or distribution.

Evaluation of Information for This Finding

Section 4 of the Act (16 U.S.C. 1533) and its implementing regulations at 50 CFR part 424 set forth the procedures for adding a species to, or removing a species from, the Federal Lists of Endangered and Threatened Wildlife and Plants. A species may be determined to be an endangered or threatened species due to one or more of the five factors described in section 4(a)(1) of the Act:

(A) The present or threatened destruction, modification, or curtailment of its habitat or range;

(B) Overutilization for commercial, recreational, scientific, or educational purposes;

(C) Disease or predation;

(D) The inadequacy of existing regulatory mechanisms; or

(E) Other natural or manmade factors affecting the species' continued existence.

In considering what factors might constitute threats, we must look beyond the exposure of the species to a particular factor to evaluate whether the species may respond to that factor in a way that causes actual impacts to the species. If there is exposure to a factor and the species responds negatively, the factor may be a threat and we attempt to determine how significant a threat it is. The threat may be significant if it drives, or contributes to, the risk of extinction of the species such that the species may warrant listing as endangered or threatened as those terms are defined by the Act. The identification of factors that could impact a species negatively may not be sufficient to compel a finding that substantial information has been presented suggesting that listing may be warranted; virtually all species face some degree of threat. The information should contain evidence or the reasonable extrapolation that any factor(s) may be an operative threat that acts on the species to the point that the species may meet the definition of endangered or threatened under the Act.

In making this 90-day finding, we evaluated whether information regarding the threats to the straight snowfly or the Idaho snowfly as presented in the petition and other information available in our files, is substantial, thereby indicating that the petitioned action may be warranted. Our evaluation of this information is presented below.

A. The Present or Threatened Destruction, Modification, or Curtailment of Its Habitat or Range

The petition states that the straight and Idaho snowflies require specific environmental conditions to survive, and that habitat and water quality conditions have been impaired in the majority of the streams where both species occur. The primary causes of stream impairment cited in the petition are timber harvest operations, agriculture, livestock grazing, recreational use, and development, each of which, the petitioners contend, leads to habitat degradation that threatens the survival of both species.

Timber Harvest and Related Activities

Information Provided in the Petition

The petition states that the Palouse Ranger District of the Clearwater National Forest, home to the “largest site cluster” for both the straight and Idaho snowfly, has been heavily logged and disturbed by associated logging road construction from past timber harvest activities (Petition, p. 10). The petitioners also state that an ongoing U.S. Forest Service project (approved in 2006; Petition, p. 10) within the area, the Cherry Dinner project (U.S. Department of Agriculture (USDA) 2006, entire; USDA in litt. 2008, p. 6), is impacting both the Hog Meadow and Little Boulder Creek drainages, where both snowfly species were previously collected in the 1980s (Petition, pp. 31-33). The petitioners state that the Cherry Dinner project incorporates timber harvest activities, including 310 acres (ac) (126 hectares (ha)) of understory slashing and burning; logging of 2,210 ac (894 ha); construction of 8.1 and 1.5 miles (mi) (13 and 2.4 kilometers (km)) of permanent and temporary roads, respectively; and reconstruction of 9.4 mi (15 km) of existing roads (Petition, p. 10; USDA 2006, p. 66497). The petitioners did not state how the proposed action would specifically impair Hog Meadow and Little Boulder Creeks.

The petition refers to “another site” (which we assume means another site where one or both of the snowfly species had been documented in the past, although the petition does not clarify this point) located on a small patch of private land within the Clearwater National Forest near the confluence of Nat Brown Creek and the Potlatch River that has been heavily logged and degraded by logging road construction in the past with numerous railroad grades along the creeks (Petition, p. 11). According to the petition, most of these railroad grades are now reported to be roads. More recently, the petition states considerable logging of National Forest land within the Potlatch watershed above this same site was approved in the West Fork Potlatch Timber Sale environmental impact statement (EIS) and Record of Decision (Petition, p. 11). Additionally, the petitioners state the Idaho Department of Lands (IDL) Fiscal Year 2010 Timber Sales Plan includes an auction of 500 ac (200 ha) in the same area as the West Fork Potlatch Timber Sale (IDL 2010, p. 22). Activities associated with this sale include harvesting mature timber using overstory removal, seed trees, and a clearcut of approximately 99 ac (40 ha), along with the construction of 2.5 mi (4.0 km) of spur road (IDL 2010, p. 22). As discussed further below, the petitioners contend that such forestry operations threaten the habitat suitability and long-term survival of the snowflies (Petition, p. 11).

The petition also asserts that the Upper Lochsa Land Exchange may threaten the two snowflies. This exchange is an agreement currently being considered by the U.S. Forest Service and Western Pacific Timber in the Potlatch watershed. In this agreement, 4,300 ac (1,740 ha) of National Forest land in Latah County would be exchanged for land elsewhere outside of the range of the straight and Idaho snowflies (USDA in litt. 2010a, p. 2; USDA in litt. 2010b). Four of the proposed exchange parcels are on National Forest lands along the Potlatch River, approximately 1 mi (1.6 km) downstream from a cluster of previous collection sites for both the straight and Idaho snowflies (Petition, p. 11). The petitioners state that if these parcels are removed from public ownership, timber harvest and real estate development are likely to occur. According to the petitioners, these activities would further compromise locations where these species were documented to occur in the Potlatch watershed (Moose Creek to Corral Creek; Petition, p. 11), which is already impaired and listed under section 303(d) of the Clean Water Act (33 U.S.C. 1251 et seq.) due to elevated temperature (Idaho Department of Environmental Quality (IDEQ) 2008, p. xix; Environmental Protection Agency (EPA) in litt. 2008, p. 3).

The petitioners assert that forestry-related activities are affecting aquatic habitat for the straight and Idaho snowflies by altering hydrological patterns, contributing increased sediment loads in streams, and influencing stream temperatures (Petition, p. 11). The petition states that logging roads increase the amount of compacted or impervious surfaces, reduce water infiltration, and remove vegetation, thereby increasing surface water runoff to streams that leads to increased erosion, turbidity, and sedimentation (Petition, p. 12; Cederholm et al. 1980, p. vi). The petition alleges that logging roads alter aquatic habitat for the snowflies by increasing flooding, facilitating the delivery of contaminants to streams, altering the stream channel, and increasing invasive plant species (Petition, p. 12; Jones et al. 2000, p. 76; Gucinski et al. 2001, entire; Forman and Alexander 1999, pp. 216, 219-221).

The petition states that impaired water quality and habitat conditions have already been documented in the majority of the streams where these species occur. It further states that each of the streams within the species' ranges that were recently investigated by the IDEQ failed the multimetric assessment (known as the “Beneficial Use Reconnaissance Program” or BURP), based on biological and physical characteristics, indicating these creeks do not support their designated beneficial uses, including support of cold-water aquatic organisms (Petition, p. 10).

Evaluation of Information Provided in the Petition and Available in Service Files

The ongoing U.S. Forest Service Cherry Dinner project and associated timber harvest activities are specifically cited in the petition as threatening the habitat for the straight and Idaho snowflies, but the analysis provided in the petition and information available in our files regarding how the project will impact or affect these two species is very limited. Furthermore, while this project includes timber harvest and road construction activities, as cited in the petition, the petition does not make note of those measures included in the Cherry Dinner project that are aimed at reducing impacts to stream habitats. Some of these measures would directly address several of the alleged threats to the two snowflies as characterized by the petitioners (Petition, pp. 10-11). For example, one of the identified purposes and needs for the Cherry Dinner project is to “reduce long-term sedimentation to streams caused by existing unsurfaced roads, and to stabilize stream banks made unstable by motorized vehicles, cattle trailing, and channelization (historic railroad grades)” (USDA 2006, p. 66497). The project plan incorporates watershed improvements, including decommissioning 24.2 mi (39 km) of roads, putting 24.6 mi (40 km) of existing roads into intermittent stored service (self-maintaining), and stabilizing 4.8 mi (7.7 km) of streambank along the East Fork Potlatch River and its tributaries (USDA 2006, p. 66497). The petition did not present any specific information, and we have no information available in our files, that suggests there is any link between this project and any population response on the part of either the straight snowfly or the Idaho snowfly.

Similarly, the petition alleges threats to the Potlatch watershed, in general, from increased activities related to industrial logging, real estate development, and road construction associated within the proposed Upper Lochsa Land Exchange (Petition, p. 11). However, the petition provides no specific information, and we have none available in our files, suggesting any link between those alleged threats and the status of the snowflies or their habitats. Other timber sales on National Forest and State lands are cited in the petition as occurring within the range of both snowflies, but analysis provided of potential effects is limited to a description of activities, and the personal communication cited as a reference in the petition to describe existing conditions from past timber harvest activities (Petition, p. 11) was not provided to the Service for our review, nor do we have any pertinent information available in our files.

The petitioners argue that impaired water quality and habitat conditions have already been documented in the majority of the streams where these species occur. However, we did not find that to be the case, based on the information presented in the petition and available in our files. As described in the petition (p. 7), the straight snowfly has been recorded from a total of 11 specific waterbodies in two watersheds and an unspecified number of additional general locations; the Idaho snowfly has been recorded from 4 specific waterbodies in two watersheds and some other unspecified number of general locales as well. Of these locations, it appears the IDEQ has assessed water quality standards in a total of five waterbodies where the species were documented: Big Bear Creek (straight snowfly), West Fork Little Bear Creek (straight snowfly), South Fork Palouse River (straight snowfly), Little Boulder Creek (both species), and the Potlatch River (both species) (IDEQ 2007, pp. xviii, 35; IDEQ 2008, pp. 52, 53).

The EPA is responsible for ensuring that Idaho complies with the Clean Water Act, and requires IDEQ to adopt water quality standards and submit those standards to the EPA every 3 years. Water quality standards address various beneficial uses designated, or presumed, for specific water bodies, and define the criteria needed to support those uses. The IDEQ must monitor State waters to identify those that do not meet water quality standards; impaired waters that do not meet the standards are included on the Clean Water Act's section 303(d) list (IDEQ 2008, p. 1). We acknowledge that many of the waterbodies sampled by IDEQ in the Potlatch River and South Fork Palouse River Watersheds, including some where one or both of the two snowfly species may have been collected in the past, were found to violate some aspect of Idaho's water quality standards. However, it is not clear whether the areas sampled for water quality directly correspond to the areas where snowfly presence was previously documented. For example, although both snowflies are documented from the “Potlatch River” (Petition, p. 7), the IDEQ provides reports for the “Potlatch River from Big Bear Creek to the mouth,” for the “East Fork Potlatch River” and “West Fork Potlatch River,” and then for various reaches within those rivers, all which may differ in their results (IDEQ 2008, p. 52). The Potlatch River from Big Bear Creek to the mouth passed the BURP multimetric assessment, and some reaches of the East Fork Potlatch River passed, whereas others failed (IDEQ 2008, p. 52). If a stream did not pass the assessment, it was because it was found that “biological characteristics do not support beneficial uses and the stream fails the assessment” (IDEQ 2008, p. 51). Uncertainty as to whether the reaches sampled by IDEQ are representative of areas where either of the two snowfly species has been documented makes it difficult to evaluate the potential implications of the IDEQ assessments to the two species.

The petition provides only broad references about the typically narrow environmental tolerances of stoneflies in general, but provides us with no data, and we have none available in our files, to inform us as to the specific habitat requirements of these two snowfly species, or to suggest what effect the present water quality conditions may have on either species. For example, with regard to water temperature, the petition states that “requirements for Capnia lineata and C. zukeli have not been specifically documented, but other lotic, cold water species in this family are known to require dissolved oxygen saturations of 80 to 100%, and typically inhabit streams, creeks, and rivers with mean temperatures below 16 °C” (Petition, p. 8). Whether this generalized temperature requirement may apply to the straight and Idaho snowflies, however, is unknown. Information from the State of Idaho's watershed assessment reports, provided by the petitioners, suggests that the State considers water temperatures not exceeding a daily average of 66 °F (19 °C) as the standard for supporting cold-water aquatic life beneficial use (IDEQ 2007, p. 28). Although the petition states that stonefly larvae in particular have very narrow environmental requirements and are particularly vulnerable to impacts on water quality, such as changes in temperature, references provided in the petition also suggest that there is considerable variation in these requirements between species (Lillehammer et al. 1989, p. 179). As the water quality requirements of either the straight or Idaho snowflies is unknown, we have no information to allow us to determine how changes in various aspects of water quality may affect the species. In addition, as the last known collections or surveys for either species were in 1989, with no targeted collections or surveys since, we have no evidence to suggest that the abundance or distribution of either species has been curtailed. Therefore, we have no substantial information to suggest the compromised water quality noted at some locations in the IDEQ reports may be impacting either species to the degree that the species may potentially be threatened with extinction, now or within the foreseeable future.

Most of the information presented in the petition regarding timber harvest and associated activities is related to the generalized effects on streams and aquatic habitats, but the petition does not present information specific to the effects of these activities on either the straight snowfly or Idaho snowfly. Although stonefly species in general may potentially be affected by such activities, the petition does not provide information, and we have none available in our files, that indicates the degree to which the straight or Idaho snowflies may actually be exposed to the effects of these activities, or that allows us to quantify or evaluate the severity of any potential impact from these activities on the species.

Additionally, because there have been no known surveys for the two snowflies since the 1980s, we could find no current population size, distribution, or trend data in the petition or in our files that would enable us to determine whether any alleged impacts from timber harvest and associated activities, described as threats in the petition, may significantly affect the snowflies or their habitats. As stated previously, we have no evidence to suggest that the abundance or distribution of either species has been curtailed. While we understand that past and present timber harvest and their related activities have likely affected aquatic habitats, we have no available substantial information, and the petition has presented none, to allow us to quantify or evaluate these threats to either species, or to suggest that timber harvest may be a threat of such significance as to potentially threaten the straight snowfly or the Idaho snowfly with extinction, now or within the foreseeable future.

Agriculture and Related Activities

Information Provided in the Petition

The petition states agriculture poses significant threats to the long-term survival of the straight and Idaho snowflies in the southwestern portions of their range (Petition, p. 12). Five creeks where the two snowflies were documented in the 1960s and early 1980s (Big Bear Creek, Little Bear Creek, West Fork Little Bear Creek, Palouse River, and South Fork Palouse River) are located directly below upland agriculture for the majority of their lengths (Petition, pp. 12, 31). The petition asserts the conversion of native bunchgrass prairie to predominately annual crops within the Potlatch River watershed has left the soil susceptible to wind and water (precipitation runoff) erosion, and resulted in increased overland surface flow and decreased infiltration of water into the soil (Petition, p. 12). According to the petition, this has caused high sediment loads in streams and altered the stream hydrograph, with high peak flows following precipitation events and extremely low base-flows in summer within the Potlatch River watershed (IDFG 2006, pp. 1-2). The petition states Big Bear Creek, Little Bear Creek, and West Fork Little Bear Creek, where the straight and Idaho snowflies were collected in the 1960s and early 1980s, are now characterized as having a low gradient with incised channels, limited riparian vegetation, small substrate composition, and altered hydrographs (IDFG 2006, p. 2).

The petition asserts chemical use related to agriculture, such as herbicides, pesticides, and fertilizers, negatively affects water chemistry within the southwestern range of the straight and Idaho snowflies, posing a serious threat to both species (Petition, p. 13). Triallate, a pre-emergent, selective, thiocarbamate herbicide was identified in the U.S. Geological Survey's National Water-Quality Assessment's Central Columbia Plateau study as the most commonly used pesticide in the Palouse study subunit, a portion of which is within the range of both snowflies (Roberts and Wagner 1996, p. 1). Concentrations of triallate, along with three other pesticides, diazinon, carbaryl, and gamma-HCH, were also detected in the Palouse subunit at levels above the freshwater-chronic criteria for the protection of aquatic life (Roberts and Wagner 1996, p. 3). While triallate's toxicity to stoneflies is unknown, it is documented to be toxic to other aquatic insects (Kegley et al. in litt. 2009a, pp. 2-3). Trifluralin, an herbicide formulated with triallate was documented at lower concentrations in streams within the Palouse subunit, and has been cited as causing mortality in aquatic species including stoneflies (Petition, p. 13; Kegley et al. in litt. 2009d, entire; Stavola and Patterson 2004, entire). Additionally, the petitioners state that diazinon and carbaryl are highly toxic to stoneflies (Petition, p. 13; Kegley et al. in litt. 2009b, entire), and along with triallate and trifluralin, pose a serious threat to both the straight and Idaho snowflies (Petition, p. 13; Kegley et al. in litt. 2009a, pp. 2-3).

In addition to the use of pesticides, the petition states high application rates of ammonium-based nitrogen fertilizers within the Palouse River watershed pose additional concerns for the straight and Idaho snowflies (Petition, p. 13). If these fertilizers get into the water, the high ammonia concentrations and other nutrient inputs can lead to excess algae growth, can cause oxygen depletion due to the growth and decomposition cycle of algae, and can cause increased biochemical oxygen demand as ammonia is transformed to nitrate-nitrogen (Petition, pp. 13-14). The petition asserts a reduction in dissolved oxygen is deleterious to stoneflies, in general, and poses a significant threat to both snowfly species (Petition, p. 14). The petition did not, however, provide any evidence that high ammonia concentrations have been observed in waters where the two snowfly species have been documented.

Evaluation of Information Provided in the Petition and Available in Service Files

Based on information available in our files, the Service agrees that the Palouse Prairie ecosystem, which includes Latah County and the range of the straight and Idaho snowflies, has been heavily impacted by past agricultural activities, with 94 percent of the grasslands and 97 percent of the wetlands converted to crops, hay, or pasture since 1870 (Black et al. 2003, p. 1). Between 1931 and 1979, the last significant area of native plant communities was plowed (Black et al. 2003, p. 7). Portions of the Potlatch River drainage are now subject to high water temperatures, high variability in flow, and altered riparian and upland habitats, conditions that have been present since European settlement when changes to land-uses altered the landscape and hydrology within the Potlatch River (IDFG 2006, p. 23). These conditions will likely remain constant until further human development or intense restoration efforts occur (IDFG 2006, p. 23). Since 1970, little change has occurred in the overall land area devoted to agriculture. However, certain highly erodible lands have been temporarily removed from crop production under the Federal Conservation Reserve Program, with 34,594 ac (14,000 ha) removed from agriculture production and planted primarily with introduced perennial grasses in Latah County alone (Black et al. 2003, p. 8).

While we agree the Palouse Prairie ecosystem and portions of the straight and Idaho snowflies' range have experienced a dramatic conversion of native habitat to agriculture over the last century, information linking any potential effects of agriculture to the status of the straight snowfly or Idaho snowfly is currently not available in the petition, supporting documentation, or our files. The petition provides general information regarding agricultural chemical use within the Palouse region and the potential effects on certain stoneflies and aquatic insects (Petition, pp. 13-14), but information is provided at the Palouse River watershed level and is not specific to known snowfly populations (Roberts and Wagner 1996, entire). The level of agricultural chemical use within the Potlatch River watershed at sites where both snowfly species have been documented (Petition, pp. 6-7) is also unknown, although the petition cites an Idaho State Department of Agriculture study in the Clearwater Basin that concluded, “all pesticide concentrations detected during this study were below any chronic or acute levels that may cause ill effects for aquatic species” (Petition, p. 13). It is unknown, from information in the petition or in our files, what effect current agricultural chemical use may be having on either snowfly species. Although some of the agricultural chemicals used in the region may have varying degrees of toxicity to stoneflies, we do not have any information to assist us in determining what level of exposure to these chemicals, if any, is being experienced by the snowflies, and if exposed, what the potential consequence of that exposure may be. Consequently, we are unable to quantify or evaluate threats to the two snowfly species from agricultural chemical use, based on the information presented in the petition and available in our files.

Most of the information presented in the petition and assertions made regarding threats from agriculture and associated activities are related to the generalized effects on streams, aquatic habitats, and several other aquatic insects, including stoneflies, but are not specific to the straight or Idaho snowflies or the sites of their documented occurrence. Additionally, because there have been no known surveys for the straight or Idaho snowfly since 1989, we could find no current population size, distribution, or trend data in the petition or in our files that would enable us to determine whether the potential threats from agriculture and related activities as described in the petition may indeed be a threat to the species' existence. In addition, certain conservation programs, such as the Federal Conservation Reserve Program, have been recently implemented within the known distribution of both snowflies (Black et al. 2003, p. 8), and may be benefiting both species by reducing agriculture-related effects to streams where snowflies were collected. At present we have no evidence to suggest that the abundance or distribution of either species has been curtailed in any way. We therefore have no available substantial information, and the petition has presented none, to suggest that agriculture and related activities may be a threat of such significance as to potentially threaten the straight snowfly or Idaho snowfly with extinction, now or within the foreseeable future.

Livestock Grazing

Information Provided in the Petition

Within the range of the straight and Idaho snowflies, the petition states that livestock grazing has degraded water quality and negatively impacted aquatic macroinvertebrate communities through trampling and consumption of riparian vegetation, downcutting the riparian buffer, defecating and urinating within the stream channel and banks, and increasing sedimentation through the removal of riparian vegetation and trampling to channel banks (Petition, p. 14). The petitioners generally assert that livestock grazing has been shown to result in the loss of biodiversity, disruption of biological communities, and dramatic alteration of terrestrial and aquatic communities (Petition, p. 14).

The petitioners assert that livestock grazing-related impairment to water quality has occurred at most sites where the straight and Idaho snowflies were collected (Petition, p. 14). All known straight and Idaho snowfly collection sites on the Clearwater National Forest are within the currently active Potlatch Creek grazing allotment (Petition, pp. 14, 36; USDA in litt. 2007). This allotment utilizes a pasture rotation system and is active annually from June 8 through November 7 (USDA 2009a, p. 1). The petitioners state that the Potlatch River, within the Potlatch Creek allotment between Moose Creek and Corral Creek, where both snowfly species have been documented, fails to meet Idaho's water quality standards due to elevated temperature levels (Petition, p. 14; IDEQ 2008, p. xx; EPA in litt. 2008, p. 3). At a site where the straight snowfly was collected near the confluence of Nat Brown Creek and the Potlatch River, the petition asserts that impacts from livestock grazing are occurring in the Purdue and West Fork Potlatch-Moose Creek allotments on both National Forest and non-National Forest lands (Petition, p. 14). The Potlatch-Moose Creek allotment uses a three-pasture rotation grazing system that is active from June 1 through October 31 (USDA 2009b, p. 1). The petition also noted that cattle-degraded conditions have been documented by the U.S. Forest Service at Nat Brown Creek and this area is targeted for habitat restoration projects (USDA 2008, p. 24).

The petition states that livestock attraction to riparian areas is higher during the summer and fall (Clary and Webster 1989, p. 2; Leonard et al. 1997, p. 11). This timing coincides with the annual grazing season for allotments that contain streams with snowfly collection sites, which the petitioners claim further increases the potential for livestock to have serious, adverse effects on both snowfly species (Petition, p. 14). The petitioners cite a specific study of a mountain stream in Northeastern Oregon where significant reductions were documented in species richness and abundance of the Plecoptera taxa (stoneflies) in grazed versus ungrazed controls (McIver and McInnis 2007, p. 298). However, the petition did not provide supporting information on grazing effects specific to the straight or Idaho snowflies.

Evaluation of Information Provided in the Petition and Available in Service Files

The petition claimed that existing water quality and habitat conditions for the straight and Idaho snowflies are being impacted by ongoing grazing on National Forest and adjacent lands within the range of the two species, although it is unclear from the information provided in the petition or in our files what the actual level of impact from grazing may be. Although the Service acknowledges that grazing is occurring within the range of the two species and may adversely affect water quality to some degree, the petition did not provide any supporting information, and we have none available in our files, that demonstrate any relationship between grazing and the status of either the straight snowfly or the Idaho snowfly. Information in the petition or in our files is not sufficient to suggest that there may be any specific effects of livestock grazing on either snowfly species, as no information is presented regarding either the level of impact that may be occurring as a result of grazing, or evidence of any negative population response by either snowfly species.

While the information in the petition and in our files documents existing livestock grazing and water quality conditions within a portion of the straight and Idaho snowflies' known range, the information presented in the petition is restricted to the generalized effect of grazing on streams, aquatic habitats, or macroinvertebrate communities, but is not specific to the straight or Idaho snowflies. The petition does not provide information, and we have none available in our files, describing the level of impact that may potentially be occurring at straight or Idaho snowfly sites as a result of livestock grazing, therefore we have no data to verify or quantify this threat to either species. Although the petitioners indicated that grazing is occurring at some sites where the snowflies were documented in the past, and the U.S. Forest Service noted degraded riparian conditions at one location related to cattle, the petition provides no specific information as to the level of impact that may potentially be experienced by the snowflies as a result of grazing activities. Additionally, because there have been no known surveys for either the straight or Idaho snowfly since 1989, we could find no current population size, distribution, or trend data in the petition or in our files that would enable us to determine whether the potential threat from grazing as described in the petition may be a threat to the species' existence. At present we have no evidence to suggest that the abundance or distribution of either species has been curtailed in any way. We have no available substantial information, and the petition presents none, to suggest that grazing may be a threat of such significance as to potentially threaten the straight snowfly or Idaho snowfly with extinction, now or within the foreseeable future.

Recreation

Information Provided in the Petition

The petition asserts that recreation threatens habitat conditions and water quality requirements for the straight and Idaho snowflies on both State and Federal lands where they have been collected in the past (Petition, p. 15). According to the petition, the Palouse Ranger District is the most heavily visited district within the Clearwater National Forest, with three campgrounds and over 90 mi (145 km) of trails located in close proximity to the population centers of Moscow and Lewiston, Idaho (Petition, p. 15). Recreational activities on the Palouse Ranger District cited in the petition include hiking, biking, camping, fishing, and hunting, with increasing rates of off-highway vehicle (OHV) recreation, including cross-country travel and user-created trails (Petition, p. 15; USDA in litt. 2009, p. 1). Petitioner-cited OHV-specific effects on the Clearwater National Forest include vegetation loss, unsightly scars, soil erosion, and stream degradation (e.g., devegetation, destruction of fragile banks, and increased siltation; USDA in litt. 2009, p. 1).

Little Boulder Creek campground, a popular developed campground and recreation area, and the site of collections for both snowflies in 1985 (Petition, pp. 31, 33), is cited in the petition as having adversely affected habitat due to erosion from foot, bike, car, and OHV traffic; runoff of pollutants from roads and trails; introduction of bacteria and excess nutrients from dog waste; trampling of streamside vegetation by recreationists; and the construction and maintenance of stream crossings and culverts that can interrupt stream flow, generate additional sedimentation and siltation in waterways, and pose barriers to dispersal by the snowflies (Petition, pp. 15-16).

The Spring Valley Reservoir, which is managed by IDFG, is another recreation area cited by the petitioners as negatively affecting habitat suitability for both snowfly species. This reservoir and campsite is located just above Spring Valley Creek, which is the site of two documented locations for both the straight and Idaho snowflies (Petition, p. 16). The petition asserts that reservoir operations aimed at increasing summer recreation opportunities have altered the natural hydrology of Spring Valley Creek below the reservoir. They claim that retaining spring run-off until fall, when it is released from the reservoir, affects habitat suitability for both snowfly species by increasing summer water temperatures in the creek (Petition, p. 16). According to the petition, riparian areas along the section of Spring Valley Creek below the reservoir are compromised by dam rip-rap and a road, which could further elevate water temperatures via loss of shading vegetation along the creek (Petition, p. 16).

Evaluation of Information Provided in the Petition and Available in Service Files

The petition states that the Palouse Ranger District is the most heavily visited district on the Clearwater National Forest; although the document that the petitioners cited supporting this claim was not provided to the Service for our review, we were unable to find it ourselves. Although we do not dispute that recreational use is occurring within the range of the two snowfly species, it is unclear from the petition or information available in our files what specific effects recreational use at the three campgrounds and over 90 mi (145 km) of trails cited by petitioners may be having on the two snowflies or their aquatic habitats. The petition offers a list of various impacts that could potentially be associated with recreational activities, but provides no evidence that such impacts are actually occurring, or that they are occurring at a level that may impact the two snowfly species. Although recreational use may have some effect on the snowflies or their habitats, we have no data to suggest or quantify these potential threats to the species. We have no available substantial information, and the petition provides none, to suggest that any possible effects from recreational usage of campgrounds or trails may rise to the level of threatening the continued existence of either the straight or Idaho snowfly.

The increase of OHV use on the Clearwater National Forest and the effects of that use on the landscape are specifically cited and supported in the petition (Petition, p. 15; USDA in litt. 2009, p. 1). However, the information provided is at the level of the entire National Forest, and does not identify the level of OHV use that is occurring at sites where straight or Idaho snowflies have been documented. The petition provides no information, and we have none available in our files, to suggest that the abundance or distribution of either snowfly species has been curtailed within the Clearwater National Forest. The Clearwater National Forest is presently undertaking its Travel Plan and OHV Rule Implementation process under the National Travel Rule (70 FR 68264; November 9, 2005), with expected implementation sometime in 2011 (USDA in litt. 2010a, p. 3). The National Travel Rule requires National Forests to formally designate roads, trails, and areas where summer motorized travel is permitted and to show them on a Motor Vehicle Use Map (MVUM). Once the Clearwater National Forest Travel Plan is implemented, motorized travel will be permitted only on the roads, trails, and areas shown on the MVUM (USDA in litt. 2009, p. 1), and therefore OHV use will be better regulated and impacts should be reduced within the Clearwater National Forest. At present, however, the petition does not provide information, and we have none available in our files, to suggest that any possible effects from OHV use in the Clearwater National Forest may rise to the level of threatening the continued existence of either the straight or Idaho snowfly.

While the petition asserts that Little Boulder Creek campground negatively affects the straight and Idaho snowflies' aquatic habitat, the petition only summarizes campground conditions, demands, and associated recreational uses. We have no information available in our files, and the petition offers none, to suggest that activities associated with campgrounds may pose a significant threat to the existence of the two species. Without more specific information regarding how these campground conditions and associated activities may be directly impacting the two snowfly species or their aquatic habitat, we cannot evaluate the Little Boulder Creek campground as a threat to the straight or Idaho snowfly.

The petition claims that Spring Valley Creek reservoir operations alter the natural hydrology of Spring Valley Creek below the dam by retaining spring run-off until it is released from the reservoir in the fall. We agree that these reservoir operations may negatively affect Spring Valley Creek stream conditions below the dam's outflow, but we have no data that verify that the resulting stream conditions may be a threat to the two snowfly species. Although the petition states that warmer water temperatures in summer are likely as a result of reservoir operations, the petition offers no data or support for this assertion, and provides no information as to the potential consequences for the two snowfly species. At present we have no evidence to suggest that the abundance or distribution of the two snowfly species has been curtailed in Spring Valley Creek. Information in the petition or in our files is not sufficient to suggest that there are any specific effects from reservoir operations on either snowfly species, as no information is presented to demonstrate any negative response by either snowfly population. We therefore do not have substantial information to suggest that any possible effects from operation of the Spring Valley Reservoir may rise to the level of threatening the continued existence of either the straight or Idaho snowfly.

Most of the information presented in the petition regarding recreation is general in nature regarding the effects on streams and aquatic habitats, and is not specific to the aquatic habitat for the straight or Idaho snowflies. Additionally, because there have been no known surveys for the straight or Idaho snowfly since 1989, we could find no current population size, distribution, or trend data in the petition or in our files that would enable us to determine whether the potential threat from recreation as described in the petition may be a threat to the species' existence. At this time we have no evidence to suggest that the abundance or distribution of either snowfly species has been curtailed in any way. We have no available substantial information, and the petition presents none, to suggest that recreation may be a threat of such significance as to potentially threaten the straight snowfly or Idaho snowfly with extinction, now or within the foreseeable future.

Development

Information Provided in the Petition

The petition states that within the city limits of Moscow, Idaho, the continued survival of both species is doubtful due to habitat degradation of streams within the city limits (Petition, p. 16). Both the straight and Idaho snowflies were previously collected in Moscow, although specific stream locations were not identified. Moscow, along with the cities of Troy, Deary, and Bovill, are all within the range of the snowflies, and all four are cited as growing in human population (Petition, p. 16; Latah County Comprehensive Plan 2004, p. 9; U.S. Census Bureau in litt. 2009, entire). Each of these growing cities operates a Waste Water Treatment Plant (WWTP) that discharges effluent to a river or tributary where one or both snowfly species have been previously collected (Petition, p. 16; IDEQ 2008, p. 55).

The petitioners state that the city of Troy's WWTP discharges into the West Fork Little Bear Creek (near a historical collection site for the straight snowfly), which is documented to have excessive plant growth due to nutrient overloading, elevated temperatures, and bacteria levels (Petition, pp. 16-17; IDEQ 2008, p. xxvi). The petitioners further state that this creek suffers from declining dissolved oxygen levels, presumably caused from effluent discharged from the city of Troy's WWTP (Petition, p. 17; IDEQ 2008, p. 75). The city of Deary discharges waste from a WWTP into Mount Deary Creek, a tributary to a Clean Water Act's section 303(d)-listed Big Bear Creek, where the straight snowfly was collected in 1967 (Petition, pp. 17, 31; IDEQ 2008, p. xxv). The city of Bovill releases effluent from a WWTP into the Potlatch River, also a Clean Water Act's section 303(d)-listed stream, just upstream from a “cluster of sites” where both snowfly species were collected (Petition, p. 17; IDEQ 2008, pp. xxiv-xxv). Within the Palouse River watershed, the Syringa Mobile Home Park is cited by the petitioners as discharging effluent into the South Fork Palouse River near one historical location for the straight snowfly (Petition, p. 17). This section of the South Fork Palouse River is cited by petitioners as not meeting water quality standards to fully support aquatic life due to elevated sediment, nutrients, temperature, and bacteria (Petition, p. 17; IDEQ 2007, p. xvii).

The petition states that roadways and other impervious surfaces have also affected the Palouse and Potlatch watersheds due to increasing sedimentation in streams from overland water flow and road maintenance activities (Petition, p. 17). The petition also implicates dispersing accumulated contaminants (such as brake dust, heavy metals, and organic pollutants) into streams as a threat to these two species (Petition, p. 17). Also, as previously mentioned, forest and smaller access roads are cited by petitioners as increasing the rate of erosion and sedimentation into streams (Petition, p. 17; Gucinski et al. 2001, pp. 12-15). Lastly, roads are cited as creating barriers to the movement of the straight and Idaho snowflies (Petition, p. 17); we evaluate those threats below under “Barriers to Dispersal.”

The petitioners refer to the increasing use of anti-icing road salts within the range of the straight and Idaho snowflies as having detrimental effects on aquatic organisms due to their toxicity and movement from roadways into nearby streams and rivers (Petition, p. 17; Idaho Transportation Department (ITD) in litt. 2004, entire; Kegley et al. in litt. 2009c, entire). Magnesium chloride (MgCl2), the primary liquid de-icing agent used by ITD on Idaho State roadways (Petition, p. 17), has been cited by the petitioners as having lethal and sublethal effects on aquatic insects such as water fleas (Daphnia and Ceriodaphnia spp.; Kegley et al. 2009c, p. 4; Lewis 1999, pp. 28-33). In addition, the petitioners state that MgCl2 has also been shown to affect riparian vegetation by stunting overall growth and decreasing leaf cover, making it problematic for stream temperatures to remain cool during late summer when stream flows are low, thereby affecting habitat requirements for the snowflies (Petition, p. 18).

Evaluation of Information Provided in the Petition and Available in Service Files

While streams within the city limits of Moscow, Idaho, may be degraded, information was not presented in the petition, and is not available in our files, to suggest the decline or absence of the straight or Idaho snowfly in those streams as a consequence. We acknowledge the WWTPs in the Idaho cities of Troy, Deary, and Bovill, along with the Syringa Mobile Home Park, discharge effluent into water quality-impaired streams with documented straight and Idaho snowfly collections. We also agree that sedimentation and contaminants from roadways, such as brake dust and MgCl2, may negatively affect water quality and aquatic organisms within the range of the straight and Idaho snowflies. However, it is unclear from the information provided in the petition or in our files what level of impact, if any, the discharge of effluent or sedimentation and contaminants may have on the two species of snowflies. In addition, we could find no reliable population size or trend data for the two snowflies in the petition or in our files that would enable us to determine whether these activities may be threatening the species' existence, as the last known collections or surveys for either the straight or Idaho snowfly in these areas were conducted more than 20 years ago. We therefore have no substantial information available to us, and the petition presents none, to suggest that development may be a threat of such significance as to potentially threaten the straight snowfly or Idaho snowfly with extinction, now or within the foreseeable future.

Barriers to Dispersal

Information Provided in the Petition

The petition asserts that roadways and currently impaired habitat conditions within the Potlatch River watershed, including elevated water temperature, sediment, and nutrient levels, may be limiting the snowflies' ability to colonize or re-colonize suitable habitat, therefore confining their known range to a smaller set of creeks than they historically occupied (Petition, p. 18).

Evaluation of Information Provided in the Petition and Available in Service Files

The information presented in the petition regarding barriers to dispersal is related to generalized effects of roadways and impaired habitat conditions on streams, aquatic habitats, and certain aquatic macroinvertebrates; the petition does not present any information specific to the straight or Idaho snowflies. Additionally, we could find no reliable population size or trend data in the petition or in our files for the two snowflies that would allow us to determine whether barriers to dispersal may threaten the snowflies' continued existence. The last known collections or surveys for either the straight or Idaho snowfly were in 1989, and we have no evidence to suggest that the abundance or distribution of either species has been curtailed in any way. We therefore have no substantial information available to us, and the petition presents none, to suggest that barriers to dispersal may be a threat of such significance as to potentially threaten the straight snowfly or Idaho snowfly with extinction, now or within the foreseeable future.

Summary of Factor A

The petition presents a detailed account of various activities occurring within the range of the straight snowfly and Idaho snowfly that may have generalized negative impacts on environmental quality of aquatic habitats. However, the petition does not present any information that correlates the status of the two snowfly species with any of the threats cited. Further, the petition does not provide any data to suggest that either of the species have declined in abundance or suffered any reduction in range in response to any of the cited general threats. The species were last collected in the 1980s, and we are unaware of any attempts to survey for either species since that time. We could find no reliable population size, distribution, or trend data for either the straight snowfly or Idaho snowfly in the petition or in our files that would lead us to conclude that the potential threats considered under Factor A may be a threat to the species' continued existence. In addition, as the total range occupied by straight and Idaho snowfly populations in Idaho has never been documented, no reduction in snowfly range can be determined. We found very little data, in the petition or in our files, directly related to the straight snowfly or Idaho snowfly indicating the extent of any impact to their populations.

In summary, we could find no information in the petition or in our files that would be sufficient to lead a reasonable person to conclude that the petitioned action may be warranted due to the present or threatened destruction, modification, or curtailment of the habitat or range of the straight snowfly or Idaho snowfly, as there is no information to suggest that either of these species may meet the definition of an endangered or threatened species under the Act. Overall, the petition's claims are not supported by the information available. Consequently, we conclude that the petition does not present substantial scientific or commercial information indicating that listing either the straight snowfly or Idaho snowfly may be warranted based on the present or threatened destruction, modification, or curtailment of its habitat or range.

B. Overutilization for Commercial, Recreational, Scientific, or Educational Purposes

Information Provided in the Petition

The petition does not present information, and we do not have any information in our files, suggesting that overutilization for commercial, recreational, scientific, or educational purposes may be a threat to either the straight snowfly or Idaho snowfly. Consequently, we conclude that the petition does not present substantial scientific or commercial information indicating that listing either the straight snowfly or Idaho snowfly may be warranted based on overutilization for commercial, recreational, scientific, or educational purposes.

C. Disease or Predation

Information Provided in the Petition

The petition does not identify disease or predation as a potential threat to either the straight snowfly or Idaho snowfly at this time. The petition does state that even though threats from disease or predation have never been assessed for these two species, the rarity of these species and their confined ranges makes them more vulnerable to extinction as a result of normal population fluctuations resulting from disease or predation (Petition, p. 19). The petitioners did not offer any supporting documentation for these statements, but referred to their discussion under Factor E regarding the alleged rarity of the species.

Evaluation of Information Provided in the Petition and Available in Service Files

The petition asserts that since both snowfly species are rare and have confined ranges, they are more vulnerable to extinction as a result of normal population fluctuations resulting from predation or disease. However, in order to determine that there is substantial information that a species may be endangered or threatened, we have to determine that the species actually may be subject to specific significant threats. Although we agree that species with restricted ranges and small populations may be more vulnerable to potential threats, broad statements about generalized threats to rare species do not independently constitute substantial information that listing may be warranted. Moreover, as detailed in the section below on Small Population Size and Stochastic Events under Factor E, the limited survey data available are insufficient to determine whether these snowfly species are, in fact, rare. We could find no information in the petition or in our files suggesting any impact to either species from disease or predation, or in any way linking the status of the straight snowfly or Idaho snowfly to disease or predation. Consequently, we conclude that the petition does not present substantial scientific or commercial information indicating that listing either the straight snowfly or Idaho snowfly may be warranted based on disease or predation.

D. The Inadequacy of Existing Regulatory Mechanisms

Information Provided in the Petition

The petition asserts that the straight and Idaho snowflies currently receive no recognition or protection under Federal or State law. The petition also states that both species are considered critically imperiled by IDFG's Conservation Data Center (now called the Idaho Natural Heritage Program). In addition, the petition states that both species are considered species of concern by the U.S. Forest Service, but that this designation has not resulted in the species being taken into consideration in the assessment of the environmental impacts of management actions (Petition, p. 19). While the petitioners claim that the straight and Idaho snowfly do not receive recognition or protection under Federal or State law, they do not identify any specific threats to either species, besides “land management activities within the Clearwater National Forest administrative boundary,” as a result of this lack of recognition or protection for these species (Petition, p. 19).

Evaluation of Information Provided in the Petition and Available in Service Files

Both the straight and Idaho snowflies are classified as “critically imperiled” by the Idaho Conservation Data Center (IDFG 2005, pp. 582-584), although the reasoning for this designation is the “lack of essential information pertaining to status” and “no population trend data” (which is because neither species has been collected since 1989, nor, according to the petition, have any targeted surveys for these species been conducted since then). The recommended actions for both species cited in IDFG (2005, pp. 582-584) are “field surveys are needed to determine the distribution and habitat needs of this species.” We were unable to find information in the petition, supporting documentation, or in our files that confirmed that both species are considered species of concern by the U.S. Forest Service (IDFG 2005, pp. 582-584). While they are considered species of concern in the draft Clearwater-Nez Perce National Forest Plan (USDA 2007, p. 4), this plan has not been finalized (USDA in litt. 2010a, p. 2).

Information in our files, but not mentioned in the petition, indicates that both species are considered Species of Greatest Conservation Need by the IDFG (IDFG 2005, pp. 582-584). This level of recognition by the State provides a common framework that enables conservation partners, including Federal, tribal agencies, and local government agencies, and private landowners, to jointly implement a long-term approach for the benefit of both snowfly species (IDFG 2005, p. v). Species of Greatest Conservation Need recognition also extends some level of consideration under State, Federal, and local government laws when project impacts are reviewed, such as for stormwater pollution prevention plans.

We found the petition to be correct in that there are no existing regulatory mechanisms for the straight snowfly or Idaho snowfly. We could not determine the existence of any threats the snowflies may face, now or in the foreseeable future, that would indicate a need for protective regulatory mechanisms. Because minimal information exists concerning the population size, trends, habitat needs, and limiting factors for both snowfly species, we have no substantial information to suggest that the inadequacy of existing regulatory mechanisms may pose a threat to the continued existence of these species. In addition, as noted above in Factor B and in the petition (p. 18), the straight and Idaho snowflies are not considered a commercial species, and are not at risk of overcollection. We therefore have no data related to the straight snowfly or Idaho snowfly indicating any impact to either of these species due to the inadequacy of existing regulatory mechanisms so as to potentially threaten the straight snowfly or Idaho snowfly with extinction, now or within the foreseeable future. Consequently, we conclude that the petition does not present substantial scientific or commercial information indicating that listing either the straight snowfly or Idaho snowfly may be warranted based on the inadequacy of existing regulatory mechanisms.

E. Other Natural or Manmade Factors Affecting the Species' Continued Existence

The petition identifies two threat factors under Factor E: (1) Small population size and vulnerability to stochastic events, and (2) global climate change.

Small Population Size and Stochastic Events

Information Provided in the Petition

The petition describes the straight and Idaho snowflies as weak fliers, with a limited dispersal potential that is decreased even further by habitat disturbance (Petition, p. 19). According to the petition, the population size of each of the species is unknown, but presumably small, as no more than 89 individuals have ever been reported from a single site, and most collections had fewer individuals. The petition further states that smaller and fragmented populations are generally at greater risk of extinction due to predation, disease, and changing food supply, as well as from natural disasters such as floods or droughts. Further, the loss of genetic variability and reduced fitness due to inbreeding is also a concern for small populations (Petition, p. 19).

Evaluation of Information Provided in the Petition and Available in Service Files

The petitioners assert that the straight and Idaho snowflies consist of small, isolated populations with restricted distributions, and this condition, in conjunction with other threats to the species, places them in imminent danger of extinction (Petition, p. 1). According to the petition, the straight snowfly was last surveyed in 1989, and the Idaho snowfly was last surveyed in 1985. Therefore, these surveys occurred more than 20 years ago. The petitioners presume that population sizes for the species are small, based on the maximum number of individuals historically collected from a single site (Petition, p. 7). We do not agree with the petitioners that the number of individuals in past collections is in any way reflective of total population size (Petition, p. 7). The number of individuals collected at any one time in the past would have been dependent upon the methods and purpose of that particular collection attempt, and cannot be assumed to be indicative of total population size. There are not sufficient data to reasonably estimate the size of populations of either of the two snowfly species, either historically or at the present time. In addition, it is not clear from the information provided in the petition or available in our files whether the currently recognized range of either species has been established through past targeted search efforts or from incidental collections. According to the information provided in the petition, no systematic surveys have been conducted for either of the snowfly species in recent years (Petition, p. 7), and we have no additional information available to us. We therefore do not have sufficient information to suggest that the rangewide distribution, either historical or current, of either species is known.

We recognize the inherent vulnerabilities of species with small populations and restricted geographic ranges, and agree with the petitioners that small populations are generally at greater risk of extinction from deterministic threats or stochastic processes than large populations. However, we do not consider a small population or naturally restricted distribution alone to be a threat to species; rather, these factors can be a vulnerability that may render the species more susceptible to other threats, if they are present. Even if we assume that the populations of the straight snowfly and Idaho snowfly are small and restricted in range, based on the best available information, we have no indication that other natural or anthropogenic factors are likely to significantly threaten the existence of these species. And again, at this point in time, we have no evidence to suggest that the population abundance or distribution of either species has been curtailed in any way.

In order to determine that there is substantial information that a species may be endangered or threatened, we have to determine that the species may actually be subject to specific significant threats; broad statements about generalized threats to rare species do not independently constitute substantial information that listing may be warranted. The petition does not provide, nor do we have in our files, information specific to the vulnerability of the straight or Idaho snowfly to stochastic events either now or in the foreseeable future. Furthermore, known collection surveys for both snowflies were last conducted more than 20 years ago, so the current distribution and population size of the straight or Idaho snowflies are unknown. The petition presents no information, and we have none available in our files, to suggest that the populations of either the straight snowfly or the Idaho snowfly are unnaturally small or fragmented. Consequently, in the absence of current distribution and population information, as well as the lack of information identifying specific threats to the species and linking those threats to the rarity of the species, we do not consider small population sizes and stochastic events alone to be threats for these species. We have no available substantial information, and the petition presents none, to suggest that small population size and stochastic events may be a threat of such significance as to potentially threaten the straight snowfly or Idaho snowfly with extinction, now or within the foreseeable future.

Global Climate Change

Information Provided in the Petition

The petition asserts that global climate change is a threat to the straight and Idaho snowflies. According to the petition, a temperature rise since the 1950s has shifted snowmelt more than 20 days earlier in the Latah County area, and has decreased snow pack 30 to 45 percent in the headwaters of the Potlatch River. The petition also reports that studies predict that snow packs will be reduced by up to 60 percent in some regions of the West, which, in turn, is expected to reduce summertime flows in the next 50 years by 20 to 50 percent (Petition, pp. 19-20).

According to the petition, the snowfly life cycle, in contrast to many aquatic organisms, is more constrained by warm than cold water temperatures (Petition, p. 20). The petition asserts that the effects of climate change on the nymph stage could include: (1) Nymphs remaining in diapause longer to avoid warm stream temperatures, reducing their period of active feeding and growth; and (2) nymphs exiting diapause into water temperatures that are too warm for their survival (Petition, p. 20). However, the petition does not provide any support for these statements. Citing one study of two stonefly species in the genus AlloCapnia, the petition claims that remaining in diapause longer to escape warmer weather conditions may not provide refugia for nymphs because study results indicate that increased depth in the hyporheic zone did not result in decreased temperatures (Petition, p. 20; McNutt 2003, p. 43). Two studies cited by petitioners showed that: (1) Species-specific stream temperature ranges for stonefly egg and nymph development have been documented in a study of Fennoscandian species (Petition, p. 20; Lillehammer et al. 1989, entire); and (2) another Capnia species (Capnia bifrons) failed to survive or have successful egg and nymph development above certain water temperature limits (Petition, p. 20; Elliot 1986, entire).

The petition states that the adult stonefly stage is also expected to suffer as a result of a warming climate due to: (1) Untimely emergence of adults that are not appropriate for mating and egg maturation; and (2) impaired stonefly physiological conditions resulting in reduced fertility and fecundity (Petition, p. 20). The petition claims that intensifying climatic shifts in this region pose serious threats to the straight and Idaho snowflies, largely via reductions in the availability and suitability of their thermal habitat (Petition, p. 20).

Evaluation of Information Provided in the Petition and Available in Service Files

It is possible that climate change could pose a threat to the straight snowfly or Idaho snowfly if water levels, water temperature, or other habitat variables that affect the snowflies change significantly within the foreseeable future as a result. However, the petition has presented no information, and we have none available in our files, specific to the level of water flow or the thermal environment required by either the straight snowfly or the Idaho snowfly. The petitioners cite to the studies of Lillehammer et al. (1989, entire) and Elliot (1986, entire) in support of documentation of species-specific temperature ranges for successful stonefly egg and nymph development. However, these studies provide no information specific to either the straight snowfly or Idaho snowfly. Although stoneflies in general are considered cool-water species, the study of Lillehammer et al. (1989, p. 179) concludes that “the characteristics of egg development in the Plecoptera, especially with respect to water temperature, show considerable variation.” Based on this observed variation, it is likely not appropriate to use other stonefly species as surrogates to inform us as to the specific habitat requirements of the straight snowfly or Idaho snowfly. The temperature range for successful egg and nymph development for the straight and Idaho snowflies is therefore unknown, as are temperatures tolerated by adults of either species.

There are currently no models available that predict potential climate change effects at a localized scale sufficient to ascertain the likely magnitude of water temperature changes that might be experienced within the range of the straight snowfly or Idaho snowfly. Because what may constitute suitable thermal habitat for the species is also unknown, it is not possible to determine whether the effects of climate change may become a significant threat to these species.

The information presented in the petition regarding climate change is related to generalized effects on water flow and temperature; the petition does not present any information specific to the straight or Idaho snowflies or their habitat. The petition provides no specific information, and we have none available in our files, to support the statement that reductions in the availability or suitability of thermal habitat for the two snowflies may occur as a result of climate change, and if so, pose a serious threat. The petition presents no information, and we have none available in our files, describing the habitat requirements of either the straight snowfly or the Idaho snowfly. Given the lack of current population and abundance information for either species, coupled with the limited ability of current models to ascertain whether climate change may be, or may become, a threat to these species, the petition fails to present substantial information to suggest that the straight snowfly or Idaho snowfly may be threatened with extinction due to global climate change. We have no available substantial information, and the petition presents none, to suggest that global climate change may be a threat of such significance as to potentially threaten the straight snowfly or Idaho snowfly with extinction, now or within the foreseeable future.

Summary of Factor E

The petition claims the populations of the straight snowfly and Idaho snowfly are small and fragmented, and consequently at risk of extinction from stochastic events. However, based on the information presented in the petition and in our files, the population sizes, both historical and current, for the straight snowfly and the Idaho snowfly are unknown. As there have been no surveys or collections of either species since the 1980s, there is no evidence to suggest that the distribution of either species has changed. In addition, although the petition presumes that the populations of both species are small and fragmented, there is no evidence to support this assertion.

Even if populations of the straight snowfly and Idaho snowfly were assumed to be small, we do not consider small population size, in and of itself, to constitute a threat. We agree that small population size may render a species more vulnerable to threats, if threats are present. However, in the case of the straight snowfly and Idaho snowfly, we have no indication that other factors may pose a significant threat to the existence of either species. Because we lack information identifying specific threats to the species and linking those threats to the rarity of the species, we conclude that there is no substantial information to suggest that small population size and stochastic events may be a threat.

The petition additionally proposes that global climate change poses a serious threat to the two snowflies, primarily due to reductions in the availability and suitability of their thermal habitat. However the petition presents no information, and we have none available in our files, describing the specific habitat requirements of either the straight snowfly or the Idaho snowfly. In addition, there are currently no models available that predict potential climate change effects at a localized scale sufficient to ascertain the likely magnitude of temperature changes that might be experienced within the range of the straight snowfly or Idaho snowfly. The petition provides no specific information, and we have none available in our files, to support the statement that reductions in the availability or suitability of thermal habitat for the two snowflies as a result of climate change pose a serious threat.

In summary, we could find no information in the petition or in our files that would be sufficient to lead a reasonable person to conclude the petitioned action may be warranted due to small population size or global climate change. The petition's claims are not supported by the information available. Consequently, we conclude that the petition does not present substantial scientific or commercial information indicating that listing either the straight snowfly or Idaho snowfly may be warranted based on other natural or manmade factors affecting the existence of the species, now or in the foreseeable future.

Finding

In evaluating a petition under the Act, the Secretary must make a finding as to whether the petition “presents substantial scientific or commercial information indicating that the petitioned action may be warranted.” Furthermore, as stated earlier, our regulatory standard for substantial information is “that amount of information that would lead a reasonable person to believe that the measure proposed in the petition may be warranted” (50 CFR 424.14(b)(1)). Therefore, in evaluating the petition to list the straight snowfly or Idaho snowfly as endangered or threatened under the Act, we must determine whether the petition presents substantial information indicating that the threats acting on the species may be so significant that the species may consequently be in danger of extinction at the present time (endangered), or likely to become so within the foreseeable future (threatened).

All species face some level of threat. In order to determine that there is substantial information that the species may be in danger of extinction now or in the foreseeable future, the available information must go beyond the identification of presumptive threats and should reasonably suggest that there are operative threats acting on the species to the point that it may warrant protection under the Act. The Service's Endangered Species Petition Management and Guidance (U.S. Fish and Wildlife Service and National Marine Fisheries Service 1996, p. 8) states “Petition findings need to be rooted in the here-and-now of a species' current status and whatever trends can be confidently discerned.” Information regarding the range, distribution, population size, and status of the two snowflies is dated (more than 20 years old) and very limited, which prevents any reasonable assessment of current or historical distribution, population size, or trends. In addition, the petitioners do not provide information, and we have none available in our files, indicating that the range or abundance of the snowflies has been curtailed.

Although the petition provides an inventory of various activities or elements that may pose potential threats to the straight snowfly or the Idaho snowfly, as data on their current population distribution, abundance, and trend are completely lacking, and there is no evidence that either species has suffered any population decline or reduction in range, the petitioners' conclusion that both species “are in imminent danger of extinction” (Petition, p. 5) appears to be purely speculative. We have limited or no data on the actual exposure of the straight snowfly or Idaho snowfly to the purported threats, or whether that exposure, should it occur, would cause a negative population response, let alone result in the present or threatened endangerment of the species. All available threat information presented is generalized in nature, and both the NatureServe accounts and the IDFG Comprehensive Wildlife Conservation Strategy concede that “specific threats to Idaho populations have not been identified” (IDFG 2005, pp. 592-584; NatureServe 2010a, p. 2; NatureServe 2010b, p. 1). While we may agree with the petition's description of impaired aquatic habitat conditions within the range of these two species, we simply have no information to link the effect of these conditions with the snowfly populations. Therefore the petition lacks substantial information to indicate the threats listed in the petition are significantly impacting the straight snowfly or Idaho snowfly or threatening their continued existence. Based on the information presented in the petition and available in our files, we have no evidence to suggest that threats may be acting on either the straight snowfly or the Idaho snowfly such that either species may currently be in danger of extinction or likely to become so within the foreseeable future. Therefore, we conclude that a reasonable person would not believe that the measure proposed in the petition may be warranted.

On the basis of our determination under section 4(b)(3)(A) of the Act, we find the petition does not present substantial scientific or commercial information to indicate that listing either the straight snowfly or Idaho snowfly as endangered or threatened under the Act is warranted at this time. Although we will not review the status of these species at this time, we encourage interested parties to continue to gather data that will assist with the conservation of the straight snowfly and Idaho snowfly. If you wish to provide information regarding the straight snowfly or Idaho snowfly you may submit your information or materials to the State Supervisor, Idaho Fish and Wildlife Office (see ADDRESSES), at any time.

References Cited

A complete list of references cited is available on the Internet at http://www.regulations.gov and upon request from the Idaho Fish and Wildlife Office (see ADDRESSES).

Authors

The primary authors of this notice are the staff members of the Idaho Fish and Wildlife Office (see ADDRESSES).

Authority

The authority for this action is section 4 of the Endangered Species Act of 1973, as amended (16 U.S.C. 1531 et seq.).

Dated: July 21, 2011.
Gregory E. Siekaniec,
Acting Director, U.S. Fish and Wildlife Service.

[FR Doc. 2011-19445 Filed 8-1-11; 8:45 am]

BILLING CODE 4310-55-P